DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed extension of the “Report on Current Employment Statistics.” A copy of the proposed information collection request (ICR) can be obtained by contacting the individual listed below in the ADDRESSES section of this notice.

DATES: Written comments must be submitted to the office listed in the ADDRESSES section of this notice on or before April 8, 2008.

ADDRESSES: Send comments to Amy A. Hobby, BLS Clearance Officer, Division of Management Systems, Bureau of Labor Statistics, Room 4080, 2 Massachusetts Avenue, NE., Washington, DC 20212, 202-691-7628. (This is not a toll free number.)

FOR FURTHER INFORMATION CONTACT: Amy A. Hobby, BLS Clearance Officer, 202-691-7628. (See ADDRESSES section.)

SUPPLEMENTARY INFORMATION:

I. Background

The Current Employment Statistics (CES) program provides current monthly statistics on employment, hours, and earnings, by industry and geography. CES estimates are among the most visible and widely-used Principal Federal Economic Indicators (PFEIs). CES data also are among the timeliest of the PFEIs, with their release each month by the BLS in the Employment Situation, typically on the first Friday of each month. The statistics are fundamental inputs in economic decision processes at all levels of government, private enterprise, and organized labor.

The CES monthly estimates of employment, hours, and earnings are based on a sample of U.S. nonagricultural establishments. Information is derived from approximately 260,000 reports (representing about 150,000 Unemployment Insurance (UI) accounts and 390,000 individual worksites), as of January 2008. Each month, firms report their employment, payroll, and hours on forms identified as the BLS-790. The sample is collected under a probability based design. Puerto Rico and the Virgin Islands collect an additional 4,800 reports using a quota sample.

A list of all form types currently used is listed below in the Desired Focus of Comments section of this notice. Respondents receive variations of the basic collection forms, depending on their industry. The BLS is requesting approval through February 29, 2011.

The CES program is a voluntary program under Federal statute (29 U.S.C. 2). Reporting to the State agencies is voluntary in all but four States (Oregon, Washington, North Carolina, South Carolina), Puerto Rico, and the Virgin Islands. To our knowledge, the States that do have mandatory reporting rarely exercise their authority. The collection form's confidentiality statement cites the Confidential Information Protection and Statistical Efficiency Act of 2002 and mentions the State mandatory reporting authority.

II. Current Action

Office of Management and Budget clearance is being sought for the Report on Current Employment Statistics.

Automated data collection methods are now used for most of the CES sample. Approximately 115,000 reports are received through Electronic Data Interchange and 56,100 reports are collected using Computer Assisted Telephone Interviewing, as of January 2008. Touchtone Data Entry is the third largest mode, accounting for 37,100 reports. In comparison, only 4,300 reports are collected by mail. Fax also is a significant collection mode, as 16,200 reports are collected via this method.

Web collection is rapidly increasing in importance as approximately 14,200 reports were collected as of January 2008. The balance of the sample is collected through other automated methods, including submission of tapes, diskettes, and e-mail.

The BLS has decided to significantly increase the use of Web for CES data collection. Web when compared to Touchtone Data Entry has higher response rates. The BLS also has decided to stop research on fax optical character recognition collection due to cost and technical considerations. Instead, firms are offered the opportunity to submit an Excel file in a standard format through the BLS Web site.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Extension, without change, of a currently approved collection.

Agency: Bureau of Labor Statistics.

Title: Report on Current Employment Statistics.

OMB Number: 1220-0011.

Affected Public: State or local governments; businesses or other for-profit; non-profit institutions; small businesses or organizations.

Form | Reports | Minutes per report | Frequency of response | Annual responses | Annual burden hours
A—Natural Resources and Mining | 1,400 | 11 | 12 | 16,800 | 3,080
B—Construction | 11,900 | 11 | 12 | 142,800 | 26,180
C—Manufacturing | 12,600 | 11 | 12 | 151,200 | 27,720
E—Service Providing Industries | 169,600 | 11 | 12 | 2,035,200 | 373,120
G—Public Administration | 43,300 | 6 | 12 | 519,600 | 51,960
S—Education | 9,100 | 6 | 12 | 109,200 | 10,920
Private Fax form | 16,100 | 11 | 12 | 193,200 | 35,420
Public Administration Fax Form | 300 | 6 | 12 | 3,600 | 360
Education Fax Form | 400 | 6 | 12 | 4,800 | 480
Total | 264,700 |  |  | 3,176,400 | 529,240

Total Burden Cost (capital/startup): $0

Total Burden Cost (operating/maintenance): $0.

Comments submitted in response to this notice will be summarized and/or included in the request for Office of Management and Budget approval of the information collection request; they also will become a matter of public record.

Signed at Washington, DC, this 4th day of February 2008.
Cathy Kazanowski,
Chief, Division of Management Systems, Bureau of Labor Statistics.

[FR Doc. E8-2338 Filed 2-7-08; 8:45 am]

BILLING CODE 4510-24-P